COMMITTEE FOR PURCHASE FROM PEOPLE WHO ARE BLIND OR SEVERELY DISABLED

Procurement List; Proposed Additions and Deletions

AGENCY: Committee for Purchase from People Who Are Blind or Severely Disabled.

ACTION: Proposed additions to and deletions from procurement list.

SUMMARY: The Committee is proposing to add to the Procurement List products and a service to be furnished by nonprofit agencies employing persons who are blind or have other severe disabilities, and to delete products previously furnished by such agencies.

Comments Must be Received On or Before: May 15, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Additions: If the Committee approves the proposed additions, the entities of the Federal Government identified in this notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products:

Product/NSN: Bag, Sand Polypropylene,

(50% of the total polypropylene sand bag only requirement for Defense Supply Center Philadelphia. Does not include the combination of polypropylene and acrylic)

8105-00-142-9345,

8105-01-336-6163,

8105-01-467-0402.

NPA: Southeast Vocational Alliance, Inc., Houston, Texas.

Contracting Activity: Defense Supply Center Philadelphia, Philadelphia, Pennsylvania.

Product/NSN: Glow Plug,

2920-01-151-3627.

NPA: Shares Inc., Shelbyville, Indiana.

Contracting Activity: Defense Supply Center Columbus, Columbus, Ohio.

Product/NSN: Targets, Silhouette,

6920-00-600-6874—Paper Matte Target,

6920-00-795-1806—Kneeling Position,

6920-00-951-3956—Standing Man Holding Pistol.

NPA: North Central Sight Services, Inc., Williamsport, Pennsylvania.

Contracting Activity: Defense Supply Center Philadelphia, Philadelphia, Pennsylvania.

Service:

Service Type/Location: Janitorial/Custodial, Basewide, Fort Dix, New Jersey.

NPA: Occupational Training Center of Burlington County, Mt. Holly, New Jersey.

Contracting Activity: Army Reserve Contracting Center, Fort Dix, New Jersey.

Deletions:

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products:

Product/NSN: Flashlight,

6230-01-513-3270—3D, Silver,

6230-01-513-3273—3D, Red,

6230-01-513-3287—5D, Blue,

6230-01-513-3288—5D, Red,

6230-01-513-3291—4D, Blue,

6230-01-513-3301—5D, Silver,

6230-01-513-3308—4D, Silver.

NPA: Central Association for the Blind & Visually Impaired, Utica, New York.

Contracting Activity: Office Supplies & Paper Products Acquisition Center, New York, NY.

Product/NSN: Pen, Gel, Executive,

7520-00-NIB-1491.

NPA: West Texas Lighthouse for the Blind, San Angelo, Texas.

Contracting Activity: Office Supplies & Paper Products Acquisition Center, New York, NY.

Product/NSN: Super Disk LS-120 Imation,

7045-01-455-2291.

NPA: North Central Sight Services, Inc., Williamsport, Pennsylvania.

Contracting Activity: Defense Supply Center Philadelphia, Philadelphia, Pennsylvania.

Product/NSN: Test Kit, Oil Condition,

6630-01-096-4792.

NPA: Susquehanna Association for the Blind and Visually Impaired, Lancaster, Pennsylvania.

Contracting Activity: Defense Supply Center Philadelphia, Philadelphia, Pennsylvania.

Patrick Rowe,
Deputy Executive Director.

[FR Doc. 05-7569 Filed 4-14-05; 8:45 am]

BILLING CODE 6353-01-P0